DEPARTMENT OF HOMELAND SECURITY

Office of the Secretary

[Docket No. DHS-2005-0032]

Office of Research and Development; Proposed Federally Funded Research and Development Center

AGENCY: Office of National Laboratories, Directorate of Science and Technology, Department of Homeland Security.

ACTION: Notice.

SUMMARY: The Department of Homeland Security (DHS) expects to sponsor a Federally Funded Research and Development Center (FFRDC) to address the need for scientific research to better anticipate, prevent, and mitigate the consequences of biological attacks. The proposed FFRDC will be the National Biodefense Analysis and Countermeasures Center (NBACC) which is a critical component in the overarching Homeland Security national biodefense complex. The NBACC will both coordinate biodefense research activities among various federal agencies and to execute its own research plan. Also required will be technical and program management capabilities to facilitate operation of the NBACC facility.

ADDRESSES: If you desire to submit comments, they must be submitted within 30 days after publishing of this Notice. Comments must be identified by DHS-2005-0032 and may be submitted by one of the following methods:

• EPA Federal Partner EDOCKET Web site: http://www.epa.gov/feddocket. Follow instructions for submitting comments on the Web site.

• E-mail: James.Johnson2@dhs.gov Include docket number in the subject line of the message.

• Fax: 202-254-6163.

• Mail: James V. Johnson, Science and Technology Directorate, Department of Homeland Security, Washington DC 20528.

Docket: For access to the docket to read the background documents or comments received, go to http://www.epa.gov/feddocket.

FOR FURTHER INFORMATION CONTACT: Mr. James V. Johnson via e-mail at James.Johnson2@dhs.gov, or by telephone at (202) 254-6098.

SUPPLMENTARY INFORMATION: The FFRDC would be established under the authority of Section 305 of the Homeland Security Act of 2002, P.L. 107-296. Pursuant to this section, the Secretary of Homeland Security, “acting through the Under Secretary for Science and Technology, shall have the authority to establish * * * 1 or more federally funded research and development centers to provide independent analysis of homeland security issues, or to carry out other responsibilities under this Act* * *.”

This notice is provided pursuant to 5.205b of the Federal Acquisition Regulations (FAR) to enable interested members of the public to provide comments to DHS on this proposed action. The potential FFRDC procurement will involve a Request for Proposals within approximately 90 days of the date of this notice. Upon request, a copy of the Request for Proposals, including the scope of work for the proposed FFRDC, will be provided to any interested party or parties. Contact the person listed in the FOR FURTHER INFORMATION CONTACT section, above.

This also constitutes preliminary notice pursuant to section 308(c)(2)-(4) of the Homeland Security Act of 2002 that DHS may establish a headquarters laboratory to perform the functions envisioned by the NBACC. As required under section 308(c)(3)(A) and (B) of the Homeland Security Act, should the Secretary choose to establish a headquarters laboratory, he will establish criteria for the selection of that laboratory in consultation with the National Academy of Sciences and other agencies and experts. The criteria so established will be published in the Federal Register.

Further background of this potential establishment of the proposed FFRDC can be found out at the USAMRAA Web site, http://www.usamraa.army.mil.

Dated: April 12, 2005.
Dr. Maureen McCarthy,
Director, Office of Research and Development, Department of Homeland Security.

[FR Doc. 05-7702 Filed 4-15-05; 8:45 am]

BILLING CODE 4410-10-P